Title 3—

The President

Proclamation 10907 of March 24, 2025

Greek Independence Day: A National Day of Celebration of Greek and American Democracy, 2025

By the President of the United States of America

A Proclamation

On March 25, 1821, fueled by the rallying cry, “Freedom or Death,” Greek revolutionaries began a war for independence against the Ottoman Empire. The hard-fought victory established a sovereign Greek state and a national homeland for Greece. On the 204th anniversary of Greek Independence Day, we honor this heroic fight for freedom, and the enduring democratic ideals that continue to inspire the world.

America is inextricably tied to both ancient and modern Greece. We are tethered by history and tradition, the struggle for self-governance, emancipation, and rebirth. Our Founding Fathers drew inspiration from Greek philosophers and statesmen to form the tenets of our new Republic, now enshrined in our Constitution. Our national character has been shaped, in part, by the indelible impact of Greek influence in the arts and architecture, language and literature, and academia and military tradition. Today, across the United States, generations of Greek Americans infuse our neighborhoods and communities with a rich legacy of cultural traditions, and a heritage of family, faith, hospitality, and civic responsibility.

Greece is one of our Nation's oldest friends, strategic partners, and a valued NATO ally. We appreciate the support of Prime Minister Kyriakos Mitsotakis in our economic and diplomatic partnership as we forge opportunities for collaboration in key sectors including energy, science, technology, shipping, logistics, and defense. The permanent presence of naval forces in Souda Bay and bilateral training events enhance warfighting capabilities and reflect our mutual commitment to joint military cooperation as a cornerstone of security and stability in Europe.

On this day, we pause to celebrate Hellenic independence, people of Greek heritage worldwide, and the abiding kinship of likeminded nations who cherish democracy, patriotism, prosperity, and peace.

NOW, THEREFORE, I, DONALD J. TRUMP, President of the United States of America, by virtue of the authority vested in me by the Constitution and the laws of the United States, do hereby proclaim March 25, 2025, as Greek Independence Day: A National Day of Celebration of Greek and American Democracy. I call upon the people of the United States to observe this day with appropriate ceremonies and activities.

IN WITNESS WHEREOF, I have hereunto set my hand this twenty-fourth day of March, in the year of our Lord two thousand twenty-five, and of the Independence of the United States of America the two hundred and forty-ninth.

[FR Doc. 2025-05414

Filed 3-26-25; 8:45 am]

Billing code 3395-F4-P